NUCLEAR REGULATORY COMMISSION

[NRC-2012-0065]

Preoperational Testing of Instrument and Control Air Systems

AGENCY: Nuclear Regulatory Commission.

ACTION: Regulatory guide; issuance.

SUMMARY: The U.S. Nuclear Regulatory Commission (NRC or Commission) is issuing Revision 1 to Regulatory Guide (RG) 1.68.3, “Preoperational Testing of Instrument and Control Air Systems.” This regulatory guide is being revised to address new issues that have been raised since RG 1.68.3 was first issued. These include vibration testing of instrument and control air systems (ICAS) to meet seismic requirement, ICAS air-dryer testing to meet dew point design requirements, ICAS accumulator check valves and solenoid valves operating and testing experience, an update to ISA S7.3 for acceptable industry standards for oil, water and particle matter in ICAS.

ADDRESSES: Please refer to Docket ID NRC-2012-0065 when contacting the NRC about the availability of information regarding this document. You may access information related to this document, which the NRC possesses and are publicly available, using any of the following methods:

• Federal Rulemaking Web site: Go to http://www.regulations.gov and search for Docket ID NRC-2012-065. Address questions about NRC dockets to Carol Gallagher; telephone: 301-492-3668; email: Carol.Gallagher@nrc.gov.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced. Revision 1 of Regulatory Guide 1.68.3, is available in ADAMS under Accession No. ML12160A047. The regulatory analysis may be found in ADAMS under Accession No. ML12160A049.

• NRC's PDR: You may examine and purchase copies of public documents at the NRC's PDR, Room O1-F21, One White Flint North, 11555 Rockville Pike, Rockville, Maryland 20852.

Regulatory guides are not copyrighted, and NRC approval is not required to reproduce them.

FOR FURTHER INFORMATION CONTACT: Kurt Cozens, Office of Nuclear Regulatory Research, U.S. Nuclear Regulatory Commission, Washington, DC 20555-0001, telephone: 301-415-7448; email: Kurt.Cozens@nrc.gov.

SUPPLEMENTARY INFORMATION:

I. Introduction

The NRC is issuing a revision to an existing guide in the NRC's “Regulatory Guide” series. This series was developed to describe and make available to the public information such as methods that are acceptable to the NRC staff for implementing specific parts of the agency's regulations, techniques that the staff uses in evaluating specific problems or postulated accidents, and data that the staff needs in its review of applications for permits and licenses.

Revision 1 of RG1.68.3 was issued with a temporary identification as Draft Regulatory Guide, DG-1268. This guide describes methods and procedures the staff of the NRC considers acceptable to implement preoperational testing of the instrument and control air systems (ICAS) in a commercial nuclear power plant. Successful demonstration of the operability of the ICAS is one of the items required by Appendix A, “General Design Criteria for Nuclear Power Plants,” in part 50 of Title 10 of the Code of Federal Regulations (10 CFR), “Domestic Licensing of Production and Utilization Facilities.” This guide also describes the methods that the NRC staff finds acceptable for the initial test program for ICAS systems, structures, and components (SSCs) in accordance with the regulations in 10 CFR Part 52, “Licenses, Certifications, and Approvals for Nuclear Power Plants,” Subpart B, “Standard Design Certifications,” and Subpart C, “Combined Licenses.”

II. Further Information

DG-1268, was published in the Federal Register on March 16, 2012 (77 FN 15813), for a 60-day public comment period. The public comment period closed on May 18, 2012. No public comments on DG-1268 were received; therefore no content changes were made during its conversion to a regulatory guide.

III. Backfitting and Issue Finality

Issuance of this final regulatory guide does not constitute backfitting as defined in 10 CFR 50.109 (the Backfit Rule) and is not otherwise inconsistent with the issue finality provisions in 10 CFR part 52. As discussed in the “Implementation” section of this regulatory guide, the NRC has no current intention to impose this regulatory guide on holders of current operating licenses or combined licenses.

This regulatory guide may be applied to applications for operating licenses and combined licenses docketed by the NRC as of the date of issuance of the final regulatory guide, as well as future applications for operating licenses and combined licenses submitted after the issuance of the regulatory guide. Such action does not constitute backfitting as defined in 10 CRF 50.109(a)(1) or is otherwise inconsistent with the applicable issue finality provision in 10 CFR Part 52, inasmuch as such applicants or potential applicants are not within the scope of entities protected by the Backfit Rule or the relevant issue finality provisions in Part 52.

Dated at Rockville, Maryland, this 17th day of September, 2012.
For the Nuclear Regulatory Commission.
Thomas H. Boyce,
Chief, Regulatory Guide Development Branch, Division of Engineering, Office of Nuclear Regulatory Research.

[FR Doc. 2012-23560 Filed 9-24-12; 8:45 am]

BILLING CODE 7590-01-P